DEPARTMENT OF THE TREASURY

Alcohol and Tobacco Tax and Trade Bureau

27 CFR Part 9

[Docket No. TTB-2022-0014; T.D. TTB-198; Ref: Notice No. 219, 219A]

RIN 1513-AD00

Establishment of the Beverly, Washington Viticultural Area

AGENCY: Alcohol and Tobacco Tax and Trade Bureau, Treasury.

ACTION: Final rule; Treasury decision.

SUMMARY: The Alcohol and Tobacco Tax and Trade Bureau (TTB) establishes the approximately 2,415-acre “Beverly, Washington” viticultural area (AVA) in Grant County, Washington. The Beverly, Washington AVA is located entirely within the established Columbia Valley AVA. TTB designates viticultural areas to allow vintners to better describe the origin of their wines and to allow consumers to better identify wines they may purchase.

DATES: This final rule is effective November 29, 2024.

FOR FURTHER INFORMATION CONTACT: Mimi Torello, Regulations and Rulings Division, Alcohol and Tobacco Tax and Trade Bureau, 1310 G Street NW, Box 12, Washington, DC 20005; phone 202-453-1039, ext. 432.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels and ensure that labels provide the consumer with adequate information as to the identity and quality of the product. The Alcohol and Tobacco Tax and Trade Bureau (TTB) administers the FAA Act pursuant to section 1111(d) of the Homeland Security Act of 2002, codified at 6 U.S.C. 531(d). In addition, the Secretary has delegated certain administration and enforcement of these authorities to TTB through Treasury Order 120-01.

Part 4 of the TTB regulations (27 CFR part 4) authorizes TTB to establish definitive viticultural areas and regulate the use of their names as appellations of origin on wine labels and in wine advertisements. Part 9 of the TTB regulations (27 CFR part 9) sets forth standards for the preparation and submission to TTB of petitions for the establishment or modification of American viticultural areas (AVAs) and lists the approved AVAs.

Definition

Section 4.25(e)(1)(i) of the TTB regulations (27 CFR 4.25(e)(1)(i)) defines a viticultural area for American wine as a delimited grape-growing region having distinguishing features as described in part 9 of the regulations and, once approved, a name and a delineated boundary codified in part 9 of the regulations. These designations allow vintners and consumers to attribute a given quality, reputation, or other characteristic of a wine made from grapes grown in an area to the wine's geographic origin. The establishment of AVAs allows vintners to describe more accurately the origin of their wines to consumers and helps consumers to identify wines they may purchase. Establishment of an AVA is neither an approval nor an endorsement by TTB of the wine produced in that area.

Requirements

Section 4.25(e)(2) of the TTB regulations (27 CFR 4.25(e)(2)) outlines the procedure for proposing an AVA and allows any interested party to petition TTB to establish a grape-growing region as an AVA. Section 9.12 of the TTB regulations (27 CFR 9.12) prescribes standards for petitions to establish or modify AVAs. Petitions to establish an AVA must include the following:

• Evidence that the area within the proposed AVA boundary is nationally or locally known by the AVA name specified in the petition;

• An explanation of the basis for defining the boundary of the proposed AVA;

• A narrative description of the features of the proposed AVA affecting viticulture, such as climate, geology, soils, physical features, and elevation, that make the proposed AVA distinctive and distinguish it from adjacent areas outside the proposed AVA boundary;

• If the proposed AVA is to be established within, or overlapping, an existing AVA, an explanation that both identifies the attributes of the proposed AVA that are consistent with the existing AVA and explains how the proposed AVA is sufficiently distinct from the existing AVA and therefore appropriate for separate recognition; and

• The appropriate United States Geological Survey (USGS) map(s) showing the location of the proposed AVA, with the boundary of the proposed AVA clearly drawn thereon; and

• A detailed narrative description of the proposed AVA boundary based on USGS map markings.

Notice of Proposed Rulemakings and Comments Received

TTB received a petition on behalf of Zirkle Fruit Company and local vineyard owners and winemakers proposing to establish the “Wanapum Village” AVA in Grant County, Washington. TTB proposed the establishment of the AVA in Notice No. 219, which published in the Federal Register on November 28, 2022 (87 FR 72927). In the notice, TTB summarized the evidence from the petition regarding the name, boundary, and distinguishing features for the proposed AVA. The notice also included information from the petition comparing the distinguishing features of the proposed AVA to the surrounding areas. For a detailed description of the evidence relating to the name, boundary, and distinguishing features of the proposed AVA, and for a detailed comparison of the distinguishing features of the proposed AVA to the surrounding areas, see Notice No. 219. The comment period closed on January 27, 2023. TTB received no comments in response to Notice No. 219.

However, after the comment period closed, TTB received a request from the original petitioner asking to change the name of the proposed AVA from “Wanapum Village” to “Beverly, Washington.” The petitioner stated that members of the Wanapum tribe expressed concerns about the use of their name for an AVA. The petitioner included sufficient name evidence to support the proposed name change.

As a result of the request, TTB published Notice No. 219A in the Federal Register on October 5, 2023 (88 FR 69113), proposing to change the name of the proposed Wanapum Village AVA to “Beverly, Washington.” No other changes to the proposed AVA were included in Notice No. 219A. The comment period closed December 4, 2023. TTB received one comment in response to Notice No. 219A. The anonymous public comment expressed support for use of the name “Beverly, Washington” for the AVA, based both on respect for the Wanapum tribe regarding use of their name and “Beverly” being a common name used in the local community to describe the region.

TTB Determination

After careful review of the petition and comment, TTB finds that the evidence provided by the petitioner supports the establishment of the Beverly, Washington AVA. Accordingly, under the authority of the FAA Act, section 1111(d) of the Homeland Security Act of 2002, and parts 4 and 9 of the TTB regulations, TTB establishes the “Beverly, Washington” AVA in Grant County, effective 30 days from the publication date of this document.

TTB has also determined that the Beverly, Washington AVA will remain part of the established Columbia Valley AVA. As discussed in Notice No. 219, the Beverly, Washington AVA shares some of the general viticultural features of the larger Columbia Valley AVA, such as elevations being below 2,000 feet and annual growing degree day (GDD) accumulations ¹ that did not fall below 2,800. However, the Beverly, Washington AVA has some distinctive features, namely its soils. Within the Beverly, Washington AVA, soils are primarily formed from sand and gravel deposited by water and are classified as sand and stony loamy sand. By contrast, T.D. ATF-190, which established the Columbia Valley AVA, described the soils of the Columbia Valley AVA as fine-grained soils derived from wind-deposited silts and fine sand.

¹ See Albert J. Winkler, General Viticulture (Berkeley: University of California Press, 1974), pages 61-64. In the Winkler climate classification system, annual heat accumulation during the growing season, measured in annual GDDs, defines climatic regions. One GDD accumulates for each degree Fahrenheit (F) that a day's mean temperature is above 50 degrees F, the minimum temperature required for grapevine growth.

The Beverly, Washington Viticultural Area

Distinguishing features of the Beverly, Washington AVA include low, rolling hills with gentle to moderate slopes at an elevation of 515 to 950 feet. Soils are derived from ice-age flood deposits of sand and gravel mixed with wind-deposited sand and are excessively to somewhat excessively well-drained. The four main soil series dominating the Beverly, Washington AVA are the Burbank, Winchester, Schwana, and Quincy series. According to the petition, soils within the AVA are coarse soils, which are less susceptible to erosion than soils formed in silt and fine sand; therefore, cover crops are not currently used in the AVA. Also, coarse-textured soils without cover crops warm faster than fine-grained soils. Such warmer soils promote earlier onset of phenological states in grapes, such as bud break and veraison.

Climate in the Beverly, Washington AVA is warm and windy with a higher average growing season temperature, and higher GDD accumulations than most of the surrounding regions. The average growing season temperatures for the AVA range from 65.8 degrees Fahrenheit to 71.8 degrees Fahrenheit, with an average maximum temperature ranging from 78.2 degrees Fahrenheit to 85.9 degrees Fahrenheit. GDD accumulations within the AVA range from 2,816 to 3,593. Wind speeds within the AVA are also high, with average wind speeds ranging from 7.1 miles per hour to 7.8 miles per hour. Maximum wind speeds can reach 28.2 miles per hour. According to the petition, warm temperatures and high GDD accumulations within the Beverly, Washington AVA allow vineyard owners to plant warmer-climate cultivars that require more heat to ripen. Additionally, cooler climate grape varietals planted in the AVA will ripen faster and accumulate more sugars than the same varietals planted in cooler regions. High winds within the AVA can reduce mildew pressure on the vines and promote development of smaller grapes with thicker skins.

To the west of the Beverly, Washington AVA is the Columbia River floodplain with elevations between 500 and 530 feet. Regions to the north and east of the AVA, which include the established Royal Slope AVA (27 CFR 9.271), have finer-grained soils, lower temperatures, and are less windy. The topography of the regions to the north and east of the AVA consists of a single gentle slope with elevations up to 1,756 feet. The soils within the Royal Slope AVA also differ from those of the Beverly, Washington AVA and consist of fewer medium-to coarse-grained soils.

To the immediate south of the Beverly, Washington AVA is a rugged 1,500-foot deep, 1.5-mile-wide cliff-walled canyon known as Sentinel Gap. This region has soils that are defined as “rubble land-rock outcrop complex,” making this particular area unsuitable for viticulture. Regions farther to the south, including the established Wahluke Slope AVA (27 CFR 9.192), are gently sloping and have soils similar to the Beverly, Washington AVA. Data suggests that temperatures in the established Wahluke Slope AVA are more varied than in the Beverly, Washington AVA, with some locations reporting similar temperatures and GDD accumulations, while other locations reported higher or lower temperatures and GDD accumulations. However, the average and maximum wind speeds in the Beverly, Washington AVA are generally higher than in the Wahluke Slope AVA.

Boundary Description

See the narrative description of the boundary of the Beverly, Washington AVA in the regulatory text published at the end of this final rule.

Maps

The petitioner provided the required maps, and they are listed below in the regulatory text. The Beverly, Washington AVA boundary may also be viewed on the AVA Map Explorer on the TTB website, at https://www.ttb.gov/wine/ava-map-explorer.

Impact on Current Wine Labels

Part 4 of the TTB regulations prohibits any label reference on a wine that indicates or implies an origin other than the wine's true place of origin. For a wine to be labeled with an AVA name or with a brand name that includes an AVA name, at least 85 percent of the wine must be derived from grapes grown within the area represented by that name, and the wine must meet the other conditions listed in 27 CFR 4.25(e)(3). If the wine is not eligible for labeling with an AVA name and that name appears in the brand name, then the label is not in compliance and the bottler must change the brand name and obtain approval of a new label. Similarly, if the AVA name appears in another reference on the label in a misleading manner, the bottler would have to obtain approval of a new label. Different rules apply if a wine has a brand name containing an AVA name that was used as a brand name on a label approved before July 7, 1986. See 27 CFR 4.39(i)(2) for details.

With the establishment of the Beverly, Washington AVA, its name, “Beverly, Washington,” will be recognized as a name of viticultural significance under § 4.39(i)(3) of the TTB regulations (27 CFR 4.39(i)(3)). The text of the regulations clarifies this point. Consequently, wine bottlers using the name “Beverly, Washington” in a brand name, including a trademark, or in another label reference to the origin of the wine, will have to ensure that the product is eligible to use the AVA name as an appellation of origin.

The establishment of the Beverly, Washington AVA will not affect any existing AVA. The establishment of the AVA will allow vintners to use “Beverly, Washington” or “Columbia Valley” as an appellation of origin for wines made primarily from grapes grown within the AVA if the wines meet the eligibility requirements for the appellation.

Regulatory Flexibility Act

TTB certifies that this regulation will not have a significant economic impact on a substantial number of small entities. The regulation imposes no new reporting, recordkeeping, or other administrative requirement. Any benefit derived from the use of an AVA name would be the result of a proprietor's efforts and consumer acceptance of wines from that area. Therefore, no regulatory flexibility analysis is required.

Executive Order 12866

It has been determined that this final rule is not a significant regulatory action as defined by Executive Order 12866 of September 30, 1993, as amended. Therefore, no regulatory assessment is required.

Drafting Information

Mimi Torello of the Regulations and Rulings Division drafted this final rule.

List of Subjects in 27 CFR Part 9

Wine.

The Regulatory Amendment

For the reasons discussed in the preamble, TTB amends title 27, chapter I, part 9, Code of Federal Regulations, as follows:

PART 9—AMERICAN VITICULTURAL AREAS

1. The authority citation for part 9 continues to read as follows:

Authority: 27 U.S.C. 205.

Subpart C—Approved American Viticultural Areas

2. Add § 9.297 to subpart C to read as follows:

§ 9.297 Beverly, Washington.

(a) Name. The name of the viticultural area described in this section is “Beverly, Washington”. For purposes of part 4 of this chapter, “Beverly, Washington” is a term of viticultural significance.

(b) Approved maps. The one United States Geological Survey (USGS) 1:24,000 scale topographic map used to determine the boundary of the viticultural area is titled Beverly, Washington (2017).

(c) Boundary. The Beverly, Washington viticultural area is located in Grant County, Washington. The boundary of the Beverly, Washington viticultural area is described as follows:

(1) The beginning point is on the Beverly, Washington map at the intersection of State Highway 243 and southern boundary of section 34 just north of the town of Schwana. From the beginning point, proceed northwest along Highway 243 to its intersection with an unnamed local road on the north side of Wanapum Village, near the center of section 21; then

(2) Proceed east in a straight line for 2,450 feet to the 600-foot elevation contour; then

(3) Proceed southeasterly along the 600-foot elevation contour for approximately 1,500 feet to its intersection with an unnamed local road in section 22; then

(4) Proceed northeasterly along the unnamed local road for approximately 3,000 feet to its intersection with another unnamed local road; then

(5) Proceed north-northeast in a straight line for approximately 500 feet to the intersection of Beverly Burke Road and an unnamed local road; then

(6) Proceed northeasterly along Beverly Burke Road to the point where it becomes concurrent with the northern boundary of section 22, and continue east along Beverly Burke Road to its intersection with the eastern boundary of section 22; then

(7) Proceed south along the eastern boundary of section 22 for one mile to its intersection with the northern boundary of section 26; then

(8) Proceed east along the northern boundary of section 26 for one mile to its intersection with the eastern boundary of section 26; then

(9) Proceed south along the eastern boundary of section 26 to its intersection with the 540-foot elevation contour; then

(10) Proceed southwesterly along the 540-foot elevation contour to its intersection with the southern boundary of section 26; then

(11) Proceed west along the southern boundary of section 26 to its intersection with the eastern boundary of section 34; then

(12) Proceed south along the eastern boundary of section 34 for 1 mile to its intersection with the southern boundary of section 34; then

(13) Proceed west along the southern boundary of section 34 for 0.5 mile to the beginning point.

Signed: October 22, 2024.
Mary G. Ryan,
Administrator.
Approved: October 23, 2024.
Aviva R. Aron-Dine,
Deputy Assistant Secretary, Tax Policy.

[FR Doc. 2024-25076 Filed 10-28-24; 8:45 am]

BILLING CODE 4810-31-P